DEPARTMENT OF COMMERCE

Foreign-Trade Zones Board

[Order No. 1437]

Expansion of Foreign-Trade Zone 88, Great Falls, MT

Pursuant to its authority under the Foreign-Trade Zones Act of June 18, 1934, as amended (19 U.S.C. 81a-81u), the Foreign-Trade Zones Board (the Board) adopts the following Order:

Whereas, the Great Falls International Airport Authority, grantee of Foreign-Trade Zone 88, submitted an application to the Board for authority to expand FTZ 88 at the Great Falls International Airport site (1,979 acres) within the Great Falls Customs port of entry (FTZ Docket 24-2005, filed 5/19/05);

Whereas, notice inviting public comment has been given in the Federal Register (70 FR 30412, 5/26/05) and the application has been processed pursuant to the FTZ Act and the Board's regulations; and,

Whereas, the Board adopts the findings and recommendations of the examiner's report, and finds that the requirements of the FTZ Act and the Board's regulations would be satisfied, and that approval of the application would be in the public interest;

Now, therefore, the Board hereby orders:

The application to expand FTZ 88 is approved, subject to the FTZ Act and the Board's regulations, including Section 400.28.

Signed at Washington, DC, this 10th day of February 2006.

David M. Spooner,
Assistant Secretary of Commerce for Import Administration, Alternate Chairman, Foreign-Trade Zones Board.
Attest:
Dennis Puccinelli,
Executive Secretary.

[FR Doc. E6-2983 Filed 3-1-06; 8:45 am]

BILLING CODE 3510-DS-S